TENNESSEE VALLEY AUTHORITY

Sunshine Act Meeting Notice

Agency Holding the Meeting: Tennessee Valley Authority (Meeting No. 0601).

Time and Date: 10:15 a.m. (e.s.t.), March 31, 2006. Knoxville Convention Center, 701 Henley Street, Knoxville, Tennessee 37902.

Status: Open.

Agenda:

1. Introduction.

2. Selection of Chair.

3. Board Committees and/or Bylaws.

4. Operations Report.

FOR FURTHER INFORMATION CONTACT: Please call TVA Media Relations at (865) 632-6000, Knoxville, Tennessee. Information is also available at TVA's Washington Office (202) 898-2999. People who plan to attend the meeting and have special needs should call (865) 632-6000. Anyone who wishes to comment on any of the agenda in writing may send their comments to: TVA Board of Directors, Board Agenda Comments, 400 West Summit Hill Drive, Knoxville, Tennessee 37902.

Dated: March 24, 2006.
Maureen H. Dunn,
General Counsel and Secretary.

[FR Doc. 06-3067 Filed 3-27-06; 9:47 am]

BILLING CODE 8120-08-P